DEPARTMENT OF TRANSPORTATION

Office of the Secretary

49 CFR Part 1

[Docket Number: OST-1999-6189]

RIN 9991-AA38

Organization and Delegation of Powers and Duties; Secretarial Succession

AGENCY: Office of the Secretary, DOT.

ACTION: Final rule.

SUMMARY: This amendment will revise the order of Secretarial succession for the Department, including changes due to recent legislation.

EFFECTIVE DATE: June 12, 2003.

FOR FURTHER INFORMATION CONTACT: Bonnie Angermann-Stucker, Office of the Assistant General Counsel for Environmental, Civil Rights, and General Law, Department of Transportation, 400 Seventh Street, SW., Room 10102, Washington, DC 20590; Telephone: (202) 366-9166.

SUPPLEMENTARY INFORMATION: In 49 CFR 1.26, the order of succession to act as Secretary of Transportation is set forth as follows: The Deputy Secretary, General Counsel, Assistant Secretary for Budget and Programs, Assistant Secretary for Governmental Affairs, Assistant Secretary for Transportation Policy, Assistant Secretary for Aviation and International Affairs, Assistant Secretary for Administration, Associate Deputy Secretary, Under Secretary of Transportation for Security, Federal Aviation Administrator, Federal Aviation Administration Regional Administrator, Southwest Region, Federal Aviation Administration Regional Administrator, Great Lakes Region.

Section 102(e) of title 49, United States Code, authorizes the Secretary to prescribe the order of succession for the Department's Assistant Secretaries and the General Counsel. Section 215 of the Maritime Transportation Security Act of 2002 amended section 102 of title 49, United States Code, by creating the position of Under Secretary of Transportation for Policy, who is designated to act for the Secretary when the Secretary and the Deputy Secretary are absent or unable to serve, or when the offices of Secretary and Deputy Secretary are vacant. Section 215(c) also amends section 102(g) of title 49, United States Code, as redesignated by section 215(a)(1), by deleting the position of Associate Deputy Secretary, on the date that an individual is appointed to the position of Under Secretary of Transportation for Policy. Section 403 of the Homeland Security Act of 2002 transfers the functions of the Transportation Security Administration, including the duties and responsibilities of the Under Secretary of Transportation for Security, from the Department of Transportation to the Department of Homeland Security. We are updating our Secretarial Order of Succession to reflect these statutory changes as well as recent Secretarial decisions concerning the order of succession for Assistant Secretaries of Transportation.

Since this amendment relates to Departmental management, procedures, and practice, notice and comment on this rule are unnecessary under 5 U.S.C. 553(b)(3)(A). In addition, the Secretary finds that there is good cause to make this rule effective upon publication pursuant to 5 U.S.C. 553(d)(2), as a change to internal policy.

Regulatory Analyses and Notices

A. Executive Order 12866 and DOT Regulatory Policies and Procedures

The final rule is not considered a significant regulatory action under Executive Order 12866 and the Regulatory Policies and Procedures of the Department of Transportation (44 FR 11034). There are no costs associated with this rule.

B. Executive Order 13132

This action has been analyzed in accordance with the principles and criteria contained in Executive Order 13132, dated August 4, 1999. This final rule does not have a substantial direct effect on, or sufficient federalism implications for, the States, nor would it limit the policymaking discretion of the States. Therefore, the consultation and funding requirements do not apply.

C. Executive Order 13084

This final rule has been analyzed in accordance with the principles and criteria contained in Executive Order 13084 (“Consultation and Coordination with Indian Tribal Governments”). Because this final rule does not significantly or uniquely affect the communities of the Indian tribal governments and does not impose substantial direct compliance costs, the funding and consultation requirements of Executive Order 13084 do not apply.

D. Regulatory Flexibility Act

The Regulatory Flexibility Act (5 U.S.C. 601 et seq.) requires an agency to review regulations to assess their impact on small entities unless the agency determines that a rule is not expected to have a significant impact on a substantial number of small entities. I hereby certify this final rule, which amends the CFR to reflect a delegation of authority from the Secretary to the FMCSA Administrator and to the Undersecretary of Transportation for Security, will not have a significant economic impact on a substantial number of small businesses.

E. Paperwork Reduction Act

This rule contains no information collection requirements under the Paperwork Reduction Act of 1995 (44 U.S.C. 3501-3520).

F. Unfunded Mandates Reform Act

The Department has determined that the requirements of Title II of the Unfunded Mandates Reform Act of 1995 do not apply to this rulemaking.

List of Subjects in 49 CFR Part 1

Authority delegations (Government agencies), Organization and functions (Government agencies).

In consideration of the foregoing, Part 1 of Title 49, Code of Federal Regulations, is amended as follows:

PART 1—[AMENDED]

1. The authority citation for Part 1 is revised to read as follows:

Authority: 49 U.S.C. 322; 46 U.S.C. 2104(a); 28 U.S.C. 2672; 31 U.S.C. 3711(a)(2); Pub. L. 101-552, 104 Stat. 2736; Pub. L. 106-159, 113 Stat. 1748; Pub. L. 107-71, 115 Stat. 597; Pub. L. 107-295, 116 Stat. 2064 (2002); Pub L. 107-296, 116 Stat. 2135 (2002).

2. In § 1.26 remove paragraphs (a)(2) through (a)(12) and add paragraphs (a)(2) through (a)(11) to read as follows:

§ 1.26 Secretarial succession.

(a) * * *

(2) Under Secretary of Transportation for Policy.

(3) General Counsel.

(4) Assistant Secretary for Aviation and International Affairs.

(5) Assistant Secretary for Transportation Policy.

(6) Assistant Secretary for Budget and Programs.

(7) Assistant Secretary for Governmental Affairs.

(8) Assistant Secretary for Administration.

(9) Federal Aviation Administrator.

(10) Federal Aviation Administration Regional Administrator, Southwest Region.

(11) Federal Aviation Administration Regional Administrator, Great Lakes Region.

* * * * *

Issued this 28th day of May, 2003, in Washington, DC.
Norman Y. Mineta,
Secretary of Transportation.

[FR Doc. 03-14697 Filed 6-11-03; 8:45 am]

BILLING CODE 4190-62-P